DEPARTMENT OF COMMERCE

National Oceanic and Atmospheric Administration

RIN 0648-XZ48

Pacific Fishery Management Council; Public Hearings

AGENCY: National Marine Fisheries Service (NMFS), National Oceanic and Atmospheric Administration (NOAA), Commerce.

ACTION: Notice of public hearings.

SUMMARY: The Pacific Fishery Management Council (Council) will hold public hearings on development of community fishing association (CFAs) provisions for its groundfish trawl catch share plan, which was adopted through Amendments 20 and 21 to the groundfish FMP and is scheduled for implementation at the start of 2011. The Council will address this issue at its November 3-9, 2010 Council meeting, in Costa Mesa, CA.

DATES: The hearings will be held on October 25, 27, and 28, 2010.

ADDRESSES: Hearing locations will be in Eureka, CA, Portland, OR, and Monterey, CA. See SUPPLEMENTARY INFORMATION for specific dates and times.

Council address: Pacific Fishery Management Council, 7700 NE Ambassador Place, Suite 101, Portland, OR 97220.

FOR FURTHER INFORMATION CONTACT: Mr. Jim Seger, telephone: (503) 820-2280.

SUPPLEMENTARY INFORMATION: These public hearings are being held as part of Council scoping of follow-on actions (trailing actions) for the groundfish trawl catch share program which, pursuant to the Secretary of Commerce's approval of Amendments 20 and 21 to the West Coast Groundfish Fishery Management Plan, is scheduled to be implemented January 1, 2011. The Council has prioritized four issues for scoping at its November 3-9, 2010 meeting, among which is the issue of whether to provide CFAs with an exception to quota share control limits. During the public hearing, comment will be solicited on the control limit exception for CFAs as well as other CFA provisions that might be added to the trawl rationalization program. Comment is sought on both alternatives and impacts to consider. At its November 2010 meeting, the only CFA issue the Council will be scoping is whether to provide CFAs with an exception to the control limit, however, other provisions for CFAs that are identified through these public hearings may be prioritized for later trailing actions.

The agenda for the November 2010 Council meeting will be published in a subsequent Federal Register, prior to the actual meeting. Additional information on the hearings, including the exact locations, will be posted on the following page of the Council Web site: http://www.pcouncil.org/groundfish/fishery-management-plan/fmp-amendment-20/.

Schedule for Public Hearings

Public hearings will be held to receive comments on Council development of catch share program provisions for CFAs on the following dates, times and locations:

October 25, 2010 (7 p.m.): Eureka, CA.

October 27, 2010 (2 p.m.): Portland, OR.

October 28, 2010 (2 p.m.): Monterey, CA.

These hearings are exclusively for the purpose of receiving public comment on CFA alternatives for the groundfish trawl catch share program. No formal actions will be taken at the hearings.

Special Accommodations

The hearings are physically accessible to people with disabilities. Requests for sign language interpretation or other auxiliary aids should be directed to Ms. Carolyn Porter at (503) 820-2280 (voice), or (503) 820-2299 (fax) at least 5 days prior to the meeting date.

Authority: 16 U.S.C. 1801 et seq.

Dated: October 4, 2010.
Tracey L. Thompson,
Acting Director, Office of Sustainable Fisheries, National Marine Fisheries Service.

[FR Doc. 2010-25278 Filed 10-6-10; 8:45 am]

BILLING CODE P